DEPARTMENT OF AGRICULTURE

Forest Service

Beaverhead-Deerlodge National Forest, Northern Region

AGENCY: Forest Service, USDA.

ACTION: Notice; intent to revise the Land and Resource Management Plan (Forest Plan) for the Beaverhead-Deerlodge National Forest.

SUMMARY: This notice announces the beginning of efforts to revise the Land and Resource Management Plan (Forest Plan) for the Beaverhead-Deerlodge National Forest. Beginning efforts are to estalish a planning team and evaluate information needs. Public involvement is critical and will be requested throughout this effort. The forest is developing a communication strategy to document how the public and government entities may participate in the revision of the Forest Plan.

ADDRESSES: Send written comments concerning this notice, communication strategy and requests to be included on the Forest Plan revision mailing list to Jack DeGolia, Public Affairs Officer, Beaverhead-Deerlodge National Forest, 420 Barrett, Dillon, MT 59725.

FOR FURTHER INFORMATION CONTACT: Janet Bean-Dochnahl, (406) 682-4253 or Anita DeZort, (406) 683-3946, Acting Forest Plan Revision Team Leaders.

SUPPLEMENTARY INFORMATION: The Forest Plan for the Beaverhead National Forest was completed in 1986 and the Deerlodge Forest Plan was completed in 1987. The Forests were administratively combined in 1996. Both plans will remain in effect and continue to be implemented until they are revised.

With this Notice we initiate revision of both forest plans. During the next several months our focus will be on organizing the revision team and evaluating information required. Once the scope of the revision is better understood the Forest will issue another Notice to announce initiation of an Environmental Impact Statement, as provided by the National Environmental Policy Act.

This Notice initiates revision under the 1982 planning regulations (36 CFR 219). The Forest Service is preparing new draft planning regulations, which are anticipated in the spring of 2002. Since these new regulations will reflect the latest national thinking on land and resource management planning, the Forest will seriously consider switching to revision under the new planning regulations. This will depend on when the regulations are finalized. An additional Notice will be issued if the Forest decides to operate under the new regulations.

Dated: April 26, 2002.
Peri Suenram,
Acting Forest Supervisor.

[FR Doc. 02-10972 Filed 5-2-02; 8:45 am]

BILLING CODE 3410-11-M